DEPARTMENT OF THE TREASURY

Comptroller of the Currency

12 CFR Part 8

[Docket No. OCC-2008-0001]

RIN 1557-AD06

Assessment of Fees

Correction

In rule document E8-3004 beginning on page 9012 in the issue of Tuesday, February 19, 2008, make the following correction:

§8.2 [Corrected]

On page 9014, in §8.2(a), the table is reprinted to read as set forth below:

If the bank's total assets (consolidated domestic and foreign subsidiaries) are:: Over— | If the bank's total assets (consolidated domestic and foreign subsidiaries) are:: But not over— | The semiannual assessment is:: This amount—base amount | The semiannual assessment is:: Plus marginal rates | The semiannual assessment is:: Of excess over—
Column A | Column B | Column C | Column D | Column E
Million | Million |  |  | Million
$0 | $2 | $X1 | 0
2 | 20 | X2 | Y1 | $2
20 | 100 | X3 | Y2 | 20
100 | 200 | X4 | Y3 | 100
200 | 1,000 | X5 | Y4 | 200
1,000 | 2,000 | X6 | Y5 | 1,000
2,000 | 6,000 | X7 | Y6 | 2,000
6,000 | 20,000 | X8 | Y7 | 6,000
20,000 | 40,000 | X9 | Y8 | 20,000
40,000 | 250,000 | X10 | Y9 | 40,000
250,000 |  | X11 | Y10 | 250,000

[FR Doc. Z8-3004 Filed 2-20-08; 8:45 am]

BILLING CODE 1505-01-D